DEPARTMENT OF AGRICULTURE

Cooperative State Research, Education, and Extension Service

Solicitation of Input From Stakeholders on the Establishment of the National Institute of Food and Agriculture at the Department of Agriculture

AGENCY: Cooperative State Research, Education, and Extension Service, USDA.

ACTION: Notice of public comment period for written stakeholder input.

SUMMARY: The Cooperative State Research, Education, and Extension Service (CSREES) is requesting written stakeholder input on the establishment of the National Institute of Food and Agriculture (Institute) at the Department of Agriculture (USDA). The establishment of the Institute is mandated in section 251(f) of the Department of Agriculture Reorganization Act of 1994 (7 U.S.C. 6971(f)) as added by section 7511(a)(4) of the Food, Conservation, and Energy Act (FCEA) of 2008 (Pub. L. 110-246). All programs and authorities currently delegated to CSREES will transfer to the Institute, no later than October 1, 2009. By this notice, CSREES has been designated to act on behalf of the Secretary of Agriculture (Secretary) in soliciting public comment from interested parties regarding the establishment of the Institute.

DATES: All written comments must be received by Friday, February 6, 2009, to be considered.

ADDRESSES: You may submit comments, identified by CSREES-2008-0004, by any of the following methods:

Federal eRulemaking Portal: http://www.regulations.gov. Follow the instructions for submitting comments.

E-mail: Institute@csrees.usda.gov. Include CSREES-2008-0004 in the subject line of the message.

Fax: (202) 720-0289.

Mail: Paper, disk or CD-ROM submissions should be submitted to: Judy Rude; Communications Staff; Cooperative State Research, Education, and Extension Service; U.S. Department of Agriculture; Mail Stop 2201; 1400 Independence Avenue, SW.; Washington, DC 20250-2201.

Hand Delivery/Courier: Judy Rude; Communications Staff; Cooperative State Research, Education, and Extension Service; U.S. Department of Agriculture; Room 4236; Waterfront Centre; 800 9th Street, SW.; Washington, DC 20024.

Instructions: All submissions received must include the title “Institute” and CSREES-2008-0004. All comments received will be posted to http://www.regulations.gov, including any personal information provided.

FOR FURTHER INFORMATION CONTACT: Judy Rude, (202) 720-4242 (phone), (202) 690-0289 (fax), or Institute@csrees.usda.gov.

SUPPLEMENTARY INFORMATION:

Additional Comment Procedures

Descriptions of the principles guiding deliberations relative to establishing the Institute are available for review at http://www.csrees.usda.gov/newsroom/pdfs/Scientists,%20Educators,%20and%20Stakeholders%20Letter.pdf. Written comments must be received by close of business, Friday, February 6, 2009, to be considered. All comments, when they become available, may be reviewed on the CSREES Web page for six months.

Background and Purpose

The establishment of the National Institute of Food and Agriculture is mandated in section 251(f) of the Department of Agriculture Reorganization Act of 1994 (7 U.S.C. 6971(f)), as added to section 7511(a)(4) of the Food, Conservation, and Energy Act (FCEA) of 2008 (Pub. L. 110-246). The Secretary shall transfer to the Institute, effective not later than October 1, 2009, the authorities (including all budget authorities, available appropriations, and personnel), duties, obligations, and related legal and administrative functions prescribed by law or otherwise granted to the Secretary, the Department, or any other agency or official of the Department under capacity and infrastructure programs; competitive programs; the research, education, economic, cooperative State research programs, cooperative extension and education programs, international programs, and other functions and authorities delegated by the Under Secretary for Research, Education, and Economics (Under Secretary for REE) to the Administrator of CSREES pursuant to section 2.66 of title 7, Code of Federal Regulations (or successor regulations); and any and all other authorities administered by the Administrator of CSREES. The terms “capacity and infrastructure programs” and “competitive programs” are defined in section 251(f)(1) (7 U.S.C.6971(f)(1)).

The Institute shall be headed by a Director, who shall be an individual who is a distinguished scientist and appointed by the President. The Secretary has determined that the Director shall report to the Under Secretary for REE, who also holds the title of Chief Scientist of USDA and is responsible for the coordination of research, education, and extension activities of USDA. The Director shall serve for a 6-year term, subject to reappointment for an additional 6-year term; periodically report to the Under Secretary for REE with respect to activities carried out by the Institute; and consult regularly with the Under Secretary for REE to ensure, to the maximum extent practicable, that research of the Institute is relevant to agriculture in the United States and otherwise serves the national interest; and that the research of the Institute supplements and enhances, and does not supplant, research conducted or funded by other Federal agencies. The Director shall exercise all of the authority provided to the Institute by section 251(f) (7 U.S.C. 6971(f)); formulate and administer programs in accordance with policies adopted by the Institute, in coordination with the Under Secretary for REE; establish offices within the Institute; establish procedures for the provision and administration of grants by the Institute; and consult regularly with the National Agricultural Research, Extension, Education, and Economics Advisory Board.

The Director shall organize offices and functions within the Institute to administer fundamental and applied research and extension and education programs. The Director shall ensure the research priorities established by the Under Secretary for REE through the Research, Education and Extension Office are carried out by the offices and functions of the Institute, where applicable. Per 7 U.S.C. 6971(e)(1), the Under Secretary for REE is required to organize within the Office of the Under Secretary for REE six Divisions, to be known collectively as the ‘Research, Education, and Extension Office', which shall coordinate the research programs and activities of the Department.

The Director shall determine an appropriate balance between fundamental and applied research programs and functions to ensure future research needs are met and designate staff, as appropriate, to assist in carrying out this function. The Director shall promote the use and growth of grants awarded through a competitive process and designate staff, as appropriate, to assist in carrying out this function. Finally, the Director shall ensure that the offices and functions established within the Institute are effectively coordinated for maximum efficiency.

Implementation Plans

CSREES plans to consider stakeholder input received from written comments in developing a proposed organization for approval by USDA and with an implementation date of not later than October 1, 2009.

Done at Washington, DC, this 29th day of December, 2008.
Colien Hefferan,
Administrator, Cooperative State Research, Education, and Extension Service.

[FR Doc. E8-31258 Filed 12-31-08; 8:45 am]

BILLING CODE 3410-22-P